DEPARTMENT OF TRANSPORTATION

National Highway Traffic Safety Administration

[Docket No. NHTSA-2001-9548; Notice 1]

Bridgestone/Firestone, Inc., Receipt of Application for Decision of Inconsequential Noncompliance

Bridgestone/Firestone, Inc. (Bridgestone) has determined that approximately 442,479 tires of various sizes and types, do not meet the labeling requirements mandated by Federal Motor Vehicle Safety Standard (FMVSS) No. 109, “New Pneumatic Tires.”

Pursuant to 49 U.S.C. 30118(d) and 30120(h), Bridgestone has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

The petition affects multiple size and type tires produced in Bridgestone's Wilson, North Carolina plant during DOT week 53 Year 2000 and DOT week 01 Year 2001. The 442,479 affected tires were mis-marked with the incorrect DOT week/year in the DOT serial, the numbering scheme designated for tire manufacture date.

Bridgestone states that the noncompliance is inconsequential to motor vehicle safety because all affected tires meet all requirements of 49 CFR 571.109, except paragraph S54.3. Also, according to Bridgestone, the date marked on the tires is incorrect but it can be used to identify the tires in the event of a recall, which is the primary purpose for the requirement of the date marking.

Interested persons are invited to submit written data, views, and arguments on the application described above. Comments should refer to the docket number and be submitted to: U.S. Department of Transportation, Docket Management, Room PL-401, 400 Seventh Street, SW., Washington, DC, 20590. It is requested that two copies be submitted.

All comments received before the close of business on the closing date indicated below will be considered. The application and supporting materials, and all comments received after the closing date, will also be filed and will be considered to the extent possible. When the application is granted or denied, the notice will be published in the Federal Register pursuant to the authority indicated below.

Comment closing date: June 7, 2001.

(49 U.S.C. 30118, 30120; delegations of authority at 49 CFR 1.50 and 501.8)

Issued on: May 3, 2001.
Stephen R. Kratzke,
Associate Administrator for Safety Performance Standards.

[FR Doc. 01-11566 Filed 5-7-01; 8:45 am]

BILLING CODE 4910-59-P